ENVIRONMENTAL PROTECTION AGENCY

[EPA-HQ-OPP-2007-1082; FRL-8364-2]

Sulfluramid; Product Cancellation Order

AGENCY: Environmental Protection Agency (EPA).

ACTION: Notice.

SUMMARY: This notice announces EPA's order for the cancellation, voluntarily requested by the registrant and accepted by the Agency, of products containing the pesticide sulfluramid, pursuant to section 6(f)(1) of the Federal Insecticide, Fungicide, and Rodenticide Act (FIFRA), as amended. This cancellation order follows a December 19, 2007 Federal Register Notice of Receipt of Request from the sulfluramid registrant to voluntarily cancel the last remaning sulfluramid manufacturing-use product (MUP) registration. In the December 19, 2007 notice, EPA indicated that it would issue an order implementing the cancellation, unless the Agency received substantive comments within the 30-day comment period that would merit its further review of these requests, or unless the registrant withdrew their request within this period. The Agency did not receive any comments on the notice. Further, the registrant did not withdraw their request. Accordingly, EPA hereby issues in this notice a cancellation order granting the requested cancellation. This cancellation order does not cancel the remaining end-use sulfluramid products currently registered for use in the United States. Any distribution, sale, or use of the sulfluramid products subject to this cancellation order is permitted only in accordance with the terms of this order, including any existing stocks provisions.

DATES: The cancellations are effective May 16, 2008.

FOR FURTHER INFORMATION CONTACT: Rosanna Louie, Special Review and Reregistration Division (7508P), Office of Pesticide Programs, Environmental Protection Agency, 1200 Pennsylvania Ave., NW., Washington, DC 20460-0001; telephone number: (703) 308-0037; fax number: (703) 308-8005; e-mail address: louie.rosanna@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2007-1082. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the Federal Register listings at http://www.epa.gov/fedrgstr.

II. What Action is the Agency Taking?

This notice announces the cancellation, as requested by the sole technical registrant, of the last registered sulfluramid manufacturing-use product (MUP) registered under section 3 of FIFRA. Table 1 in this unit describes the registration information of the affected product.

Table 1.—Sulfluramid Product Cancellation
EPA Registration Number | Product Name
352-710 | Finitron Brand Sulfluramid Termite MUP

Table 2 of this unit includes the name and address of record for the registrant of the product in Table 1 of this unit by EPA company number.

Table 2.—Registrant of the Canceled Sulfluramid Product
EPA Company Number | Company Name and Address
352 | DuPont Crop Protection, P.O. Box 30, Newark, DE 19714-0030

III. Summary of Public Comments Received and Agency Response to Comments

During the public comment period provided, EPA received no comments in response to the December 19, 2007 Federal Register notice announcing the Agency's receipt of the request for voluntary cancellation of sulfluramid.

IV. Cancellation Order

Pursuant to FIFRA section 6(f), EPA hereby approves the requested cancellation of sulfluramid registration identified in Table 1 of Unit II. Accordingly, the Agency orders that the sulfluramid product registration identified in Table 1 of Unit II. is hereby canceled. Any distribution, sale, or use of existing stocks of the products identified in Table 1 of Unit II. in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this notice includes the following existing stocks provisions.

This notice announces EPA's order to cancel the final sulfluramid MUP registration, which is identified in Table 1 of this notice. Since DuPont (the only seller) has no existing stocks, EPA is not allowing any further sale or distribution of the MUP. However, this request does not cancel the remaining end-use sulfluramid products (the remaining registered use is for termite control) currently registered in the U.S. End-use registrants may continue to reformulate any existing stocks of the MUP currently in their possession until December 31, 2012.

List of Subjects

Environmental protection, Pesticides and pests.

Dated: May 7, 2008.
Steven Bradbury,
Director, Special Review and Reregistration Division, Office of Pesticide Programs.

[FR Doc. E8-10919 Filed 5-15-08; 8:45 am]

BILLING CODE 6560-50-S